ENVIRONMENTAL PROTECTION AGENCY

[EPA-HQ-OAR-2015-0272; FRL-9939-42-OAR]

Protection of Stratospheric Ozone: Notice of Pending Suspension and Revocation of 15 Programs From EPA's List of Section 608 Technician Certifying Programs and Voluntary Withdrawals for 3 Programs

AGENCY: Environmental Protection Agency (EPA).

ACTION: Notice of pending suspension and revocations and voluntary withdrawals.

SUMMARY: The Environmental Protection Agency (EPA) is updating its list of Section 608 Technician Certification Programs approved to provide the technician certification exam. EPA's list is found here: http://www.epa.gov/ozone/title6/608/technicians/608certs.html.

DATES: On January 4, 2016 each program in the below Table: Delinquent Technician Certification Programs will be automatically suspended from their authorization to provide the technician certification exam and newly issue certification cards, except for any organization that provides its delinquent biannual reports such that they are received before that date. Each such suspended program will be automatically revoked on February 1, 2016, unless a hearing is requested consistent with 40 CFR 82.169 before that date. Please send a copy of any hearing request to the person listed in the FOR FURTHER INFORMATION CONTACT section below. Technicians certified by these programs will remain certified, in accordance with 40 CFR 82.161(a).

FOR FURTHER INFORMATION CONTACT: Robert Burchard, Stratospheric Protection Division, Office of Atmospheric Programs (6205T), Environmental Protection Agency, 1200 Pennsylvania Ave. NW., Washington, DC 20460; telephone number (202) 343-9126; fax number: (202) 343-2338; email address: burchard.robert@epa.gov.

SUPPLEMENTARY INFORMATION:

I. General Information

How can I get copies of this document and other related information?

Docket. EPA has established a docket for this action under Docket ID No. EPA-HQ-OAR-2015-0272. Publicly available docket materials are available either electronically through www.regulations.gov or in hard copy at the Air Docket, EPA/DC, WJC West Building, Room 3334, 1301 Constitution Avenue NW., Washington DC. This Docket Facility is open from 8:30 a.m. to 4:30 p.m., Monday through Friday, excluding legal holidays. The Docket telephone number is (202) 566-1742.

Electronic Access. You may access this Federal Register document electronically from the Government Printing Office under the “Federal Register” listings at the FDSys Web site (http://www.gpo.gov/fdsys/browse/collection.action?collectionCode=FR).

II. Pending Suspensions and Revocations and Voluntary Withdrawals

In accordance with the standards for certifying programs, codified at appendix D of 40 CFR part 82, subpart F, technician certifying programs must submit an activity report to EPA on a biannual basis (by every January 30 and June 30) that provides certain information about the certification tests submitted. 15 programs have repeatedly failed to submit their activity reports.

40 CFR 82.161(e) says that “If at any time an approved program violates any of the above requirements,” which reference the standards in appendix D in 82.161(c), “the Administrator reserves the right to revoke approval in accordance with Section 82.169.” Today's notice concerns the revocation of the approval of 15 programs.

These 15 programs were sent certified letters explaining that EPA was missing required activity reports and listing which reports were missing. In the letters, the programs were offered the opportunity to come into compliance by submitting missing reports.¹ The Agency received no replies. The programs in the table below have thirty days from the date of publication of this notice to submit their missing reports. Failure to submit these reports so that they are received by January 4, 2016 will result in an automatic suspension of the program's approval to offer the technician certification exam and of its approval to newly issue Section 608 technician certification cards. Automatic program revocation will occur on February 1, 2016 for any certifying organization that fails to provide missing reports, unless the organization receiving this notice of impending suspension and revocation requests a hearing in accordance with the regulations published at 40 CFR 82.169 before that date. The EPA expects to announce the final revocations in a separate Federal Register notice and to accordingly update the list of approved technician certification programs mentioned above.

¹ Some of these organizations also received notice in these letters of impending suspensions and revocations, but because some of these letters were returned to us unopened, we are providing a second notice in this Federal Register notice.

Table—Delinquent Technician Certification Programs
Number | Technician certification program | Year of most recent activity report
1 | ACI Environmental Safety Training Institute | 2009.
2 | California Career Center | No record of a submitted report.
3 | Delaware County Community College | 2011.
4 | Delaware Skills Center Building Maintenance | 2013.
5 | Delaware Technical & Community College | 2009.
6 | Educational Services | 2012.
7 | HVAC/R Training, Inc | 2010.
8 | InSolution | No record of a submitted report.
9 | Kellogg Community College | 2011.
10 | Niagara County Community College | 2010.
11 | Nugent Associates | 2011.
12 | San Diego City College | 2010.
13 | Southern Technical College | 2012.
14 | Unified Industries, Inc | No record of a submitted report.
15 | Vatterott College | 2011.

Additionally, the following 608 Technician Certification Programs voluntarily withdrew their certification and will be removed from the Agency's list of Section 608 Certified Programs: Air-Conditioning & Refrigeration Institute (ARI); CDTA, Inc.; and Motorcoach Training Specialist. Technicians certified by these programs remain certified, in accordance with 40 CFR 82.161(a). Requests for replacement cards should be sent to: spdcomments@epa.gov.

Drusilla Hufford,
Director, Stratospheric Protection Division.

[FR Doc. 2015-30374 Filed 12-1-15; 8:45 am]

BILLING CODE 6560-50-P